NATIONAL INDIAN GAMING COMMISSION

Paperwork Reduction Act; Information Collection Activities

AGENCY: National Indian Gaming Commission.

ACTION: Notice.

SUMMARY: The National Indian Gaming Commission (NIGC), in accordance with the Paperwork Reduction Act of 1995, is submitting to the Office of Management and Budget (OMB) a request to review and extend approval for the information collection activity associated with the payment annual fees by Indian tribes conducting gaming under the Indian Gaming Regulatory Act. The OMB will consider comments from the public on this information collection activity.

DATES: Comments regarding the NIGC's evaluation of the information collection activity and its request to OMB to extend approval for the information collection must be received by August 1, 2001. When providing comment, a respondent should specify the particular collection activity to which the comment pertains.

ADDRESSES: Send comments to: Office of Information and Regulatory Affairs (Attn: Desk Officer for the National Indian Gaming Commission), Office of Management and Budget, 725 17th Street, NW., Washington, DC 20503. The NIGC regulation to which the information collection pertains is available on the NIGC website, www.nigc.gov. The regulation is also available by written request to the NIGC (Attn: Ms. Cindy Altimus), 1441 L Street, NW., Suite 9100, Washington, DC 20005, or by telephone request at (202) 632-7003. This is not a toll-free number. All other requests for information should be submitted to Ms. Altimus at the above address for the NIGC.

SUPPLEMENTARY INFORMATION: Title: Annual Fees Payable by Indian Gaming Operations. OMB Number: 3141-0007. Abstract: The Indian Gaming Regulatory Act, 25 U.S.C. 2701 et seq., authorizes the NIGC to establish a schedule of fees to be paid to the NIGC by each gaming operation under the jurisdiction of the NIGC. Fees are computed using rates set by the NIGC and the assessable gross revenues of each gaming operation. The total of all fees assessed annually cannot exceed $8,000,000. Under its implementing regulation for the fee payment program, 25 CFR part 514, the NIGC relies on a quarterly statement of gross gaming revenues provided by each gaming operation that is subject to the fee requirement. The required information is needed for the NIGC to both set and adjust fee rates and to support the computation of fees paid by each gaming operation. Respondents: Indian tribal gaming operations. Estimated Number of Respondents: 320. Estimated Annual Responses: 1280. Estimated Annual Burden Hours per Respondent: 8. Estimated Total Annual Burden on Respondents: 2,560 hours.

Jacqueline Agtuca,
Chief of Staff.

[FR Doc. 01-16764 Filed 7-3-01; 8:45 am]

BILLING CODE 7565-01-U